DEPARTMENT OF DEFENSE

Department of the Army, Corps of Engineers

Proposals From Non-Federal Interests for Proposed Feasibility Studies and Proposed Modifications to Authorized Water Resources Development Projects or Feasibility Studies for Inclusion in the U.S. Army Corps of Engineers (USACE) Annual Report

AGENCY: U.S. Army Corps of Engineers, DoD.

ACTION: Notice.

SUMMARY: The Water Resources Reform and Development Act of 2014 requires that the USACE publish a notice in the Federal Register to request proposals from non-federal interests for feasibility studies and modifications to authorized USACE water resources development projects or feasibility studies. This notice is the request for proposals for inclusion in the Annual Report to be issued in February 2015.

DATES: Proposals must be submitted by December 3, 2014.

ADDRESSES: Submit proposals to: U.S. Army Corps of Engineers, Attn: CECW-CE (Lisa Kiefel), 441 G Street NW., Washington, DC 20314-1000.

FOR FURTHER INFORMATION CONTACT: Lisa Kiefel, Planning Portfolio Manager, Headquarters, USACE, Washington, DC at 202-761-0626.

SUPPLEMENTARY INFORMATION: Section 7001 of the Water Resources Reform and Development Act of 2014 (WRRDA 2014) requires the U.S. Army Corps of Engineers (USACE) to publish a notice in the Federal Register to request proposals from non-federal interests for proposed feasibility studies and proposed modifications to authorized USACE water resources development projects or feasibility studies. Proposals should include the following information:

1. Provide the name of all non-Federal interests planning to act as the sponsor, including any non-Federal interest that has contributed or is expected to contribute toward the non-Federal share of the proposed feasibility study or modification.

2. State if this proposal is for a feasibility study or a modification to an authorized USACE project or feasibility study and, if a modification, specify the authorized project or study.

3. State the project purpose of the proposed study or modification.

4. Provide an estimate, to the extent practicable, of the total cost of the proposed study or modification.

5. Describe, to the extent practicable, the anticipated monetary and non-monetary benefits of the proposal including benefits to the protection of human life and property; improvement to transportation; the national economy; the environment; or the national security interests of the United States.

6. Describe if local support exists for the proposal.

7. State if the non-Federal interest has the financial ability to provide for the required cost share.

8. Submit a letter or statement of support from each associated non-Federal interest.

All provided information may be included in the Annual Report. Please do not include information that is Confidential Business Information (CBI) or other information whose disclosure is restricted by statute.

Process: Proposals received within the time frame set forth in this notice will be reviewed by the Secretary of the Army to determine if the proposals meet the following criteria:

1. Are related to the missions and authorities of the USACE;

2. Require specific congressional authorization, including by an Act of Congress;

3. Have not been congressionally authorized;

4. Have not been included in any previous annual report; and

5. If authorized, could be carried out by the USACE.

The Secretary shall include in the Annual Report a certification of the proposals meeting criteria established by the Congress. Those proposals that do not meet the criteria will be included in an Appendix to the Annual Report that includes a description of why those proposals did not meet such criteria.

Dated: July 31, 2014.
Steven L. Stockton,
Director of Civil Works.

[FR Doc. 2014-18495 Filed 8-4-14; 8:45 am]

BILLING CODE 3712-58-P